DEPARTMENT OF TRANSPORTATION

Federal Aviation Administration

Agency Information Collection Activities: Requests for Comments; Clearance of Renewed Approval of Information Collection: Pilot Records Improvement Act of 1996 (PRIA)/Pilot Records Database (PRD)

AGENCY: Federal Aviation Administration (FAA), DOT.

ACTION: Notice and request for comments.

SUMMARY: In accordance with the Paperwork Reduction Act of 1995, FAA invites public comments about our intention to request the Office of Management and Budget (OMB) approval to renew a previously approved information collection. Title 49 United States Code (49 U.S.C.) § 44703(h): Records of Employment of Pilot Applicants, which was established by the Pilot Records Improvement Act of 1996 (PRIA), mandates that air carriers who have been issued a part 119 air carrier certificate and are authorized to conduct operations under Title 14 of the Code of Federal Regulations (14 CFR) part 121 or part 135 as well as part 125 and 135 operators, request and receive FAA records, air carrier and other operator records, and the National Driver Register records before allowing an individual to begin service as a pilot.

DATES: Written comments should be submitted by January 19, 2017.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION:

OMB Control Number: 2120-0607.

Title: Pilot Records Improvement Act (PRIA)/Pilot Records Database (PRD).

Form Numbers: FAA Forms 8060-10, 8060-10A, 8060-11, 8060-11A, 8060-12, 8060-13.

Type of Review: Renewal of an information collection.

Background: The Federal Register Notice with a 60-day comment period soliciting comments on the following collection of information was published on October 13, 2016 (81 FR 7073). There were no comments. Title 49 United States Code (49 U.S.C.) 44703(h): Records of Employment of Pilot Applicants, which was established by the Pilot Records Improvement Act of 1996 (PRIA), mandates that air carriers who have been issued a part 119 air carrier certificate and are authorized to conduct operations under Title 14 of the Code of Federal Regulations (14 CFR) part 121 or part 135 as well as part 125 and 135 operators, request and receive FAA records, air carrier and other operator records, and the National Driver Register records before allowing an individual to begin service as a pilot. Additionally, fractional ownerships operating in accordance with subpart K of part 91 are required to complete a pilot safety background check before allowing an individual to begin service as a pilot (reference § 91.1051). Furthermore, air tour operators operating in accordance with § 91.147 are required to obtain an individual's previous drug and/or alcohol testing records before allowing an individual to begin service as a pilot. All requestors are heretofore referred to as “air carriers.” The FAA is also deploying a web-based online application called the Pilot Records Database (PRD) in December 2016 that is expected to benefit hiring air carriers, operators, and pilots required to comply with PRIA. This application automates the current PRIA process and provides an air carrier with immediate access to a consenting pilot's FAA records. FAA's externally facing applications require access control through MyAccess. Members of the public will authenticate via an externally-facing registration Web page; MyAccess. The MyAccess externally-facing registration Web page allows a member of the public desiring access to an application to choose between entering Driver's License or Social Security Number to establish the proof of identity needed for authentication.

Respondents: Approximately 600 pilots.

Frequency: On occasion.

Estimated Average Burden per Response: 10 minutes.

Estimated Total Annual Burden: 100 hours.

Issued in Washington, DC, on December 14, 2016.
Ronda L Thompson,
FAA Information Collection Clearance Officer, Performance, Policy & Records Management Branch, ASP-110.

[FR Doc. 2016-30638 Filed 12-19-16; 8:45 am]

BILLING CODE 4910-13-P